DEPARTMENT OF THE INTERIOR

National Park Service

[NPS-WASO-NAGPRA-NPS0026715; PPWOCRADN0-PCU00RP14.R50000]

Notice of Inventory Completion: Historic Westville, Inc., Columbus, GA

AGENCY: National Park Service, Interior.

ACTION: Notice.

SUMMARY: Historic Westville, Inc. has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Historic Westville, Inc. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Historic Westville, Inc. at the address in this notice by December 13, 2018.

ADDRESSES: Terra Martinez, Historic Westville, Inc., 1130 Martin Luther King Jr. Blvd., Columbus, GA 31906, telephone (706) 940-0057, email office@westville.org.

SUPPLEMENTARY INFORMATION: Notice is here given in accordance with the Native American Graves Protection and Repatriation Act (NAGPRA), 25 U.S.C. 3003, of the completion of an inventory of human remains and associated funerary objects under the control of Historic Westville, Inc., Columbus, GA. The human remains and associated funerary objects were removed from unknown parts of northern Georgia and southern Tennessee.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Historic Westville, Inc. professional staff in consultation with representatives of the Absentee-Shawnee Tribe of Indians of Oklahoma; Alabama-Coushatta Tribe of Texas (previously listed as the Alabama-Coushatta Tribes of Texas); Cherokee Nation; Eastern Band of Cherokee Indians; Poarch Band of Creek Indians (previously listed as the Poarch Band of Creek Indians of Alabama); Seminole Tribe of Florida (previously listed as the Seminole Tribe of Florida (Dania, Big Cypress, Brighton, Hollywood & Tampa Reservations)); The Choctaw Nation of Oklahoma; The Muscogee (Creek) Nation; The Seminole Nation of Oklahoma; and the United Keetoowah Band of Cherokee Indians in Oklahoma, hereafter referred to as “The Consulted Tribes.”

History and Description of the Remains

In 1985, human remains representing, at minimum, four individuals were donated to Historic Westville, Inc. along with approximately 13,000 other Native American artifacts and reproductions. The collection was donated by Dr. Austin Flint. All attempts by the staff of Historic Westville to reach Dr. Flint or his descendants have been unsuccessful. Documentation of the donation consists of a handwritten inventory done by an appraiser preceding the donation and a signed deed of gift. The collection was re-discovered by current staff in 2016. The four individuals include one subadult of indeterminate sex based on the mandible fragment with unerupted teeth and three individuals of indeterminate age and sex. The 150 associated funerary objects are: 37 beads, 27 gorgets and possible gorgets, 34 celts and possible celts, 18 turtle and mollusk shells, 21 clay pots that may be reproductions, five flutes that are possible reproductions, five large decorated sherds, one pipe, one mask that is a possible reproduction, and one unknown ceramic.

Consulting archeologists identified a percentage of the collection to aid in determining point of origin for the collection. A 5% random sampling of over 1,000 project points revealed that over 80% originated from Georgia and Tennessee. A 20% sampling of pottery sherds also verified that over 80% of the sherds were from Georgia and Tennessee.

Determinations Made by Historic Westville, Inc.

Officials of Historic Westville, Inc. have determined that:

• Pursuant to 25 U.S.C. 3001(9), the human remains described in this notice are Native American based on their inclusion in a collection of over 13,000 Native American artifacts.

• Pursuant to 25 U.S.C. 3001(9), the human remains described in this notice represent the physical remains of four individuals of Native American ancestry.

• Pursuant to 25 U.S.C. 3001(3)(A), the 150 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to the final judgement of the Indian Claims Commission or the Court of Federal Claims, the land from which the Native American human remains and associated funerary objects were removed is aboriginal land of the Alabama-Coushatta Tribe of Texas (previously listed as the Alabama-Coushatta Tribes of Texas); Alabama-Quassarte Tribal Town; Catawba Indian Nation (aka Catawba Tribe of South Carolina); Cherokee Nation; Coushatta Tribe of Louisiana; Eastern Band of Cherokee Indians; Eastern Shawnee Tribe of Oklahoma; Mississippi Band of Choctaw Indians; Poarch Band of Creeks (previously listed as the Poarch Band of Creek Indians of Alabama); Sac & Fox Tribe of the Mississippi in Iowa; Seminole Tribe of Florida (previously listed as the Seminole Tribe of Florida (Dania, Big Cypress, Brighton, Hollywood & Tampa Reservation)); Shawnee Tribe; The Chickasaw Nation; The Choctaw Nation of Oklahoma; The Muscogee (Creek) Nation; The Seminole Nation of Oklahoma; Thlopthlocco Tribal Town; and the United Keetoowah Band of Cherokee Indians in Oklahoma, hereafter referred to as “The Tribes.”

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Terra Martinez, Historic Westville, Inc., 1130 Martin Luther King Jr. Blvd., Columbus, GA 31906, telephone (706) 940-0057, email office@westville.org, by December 13, 2018. After that date, if no additional requestors have come forward, transfer of control of the human remains and associated funerary objects to The Tribes may proceed.

Historic Westville, Inc. is responsible for notifying The Tribes and The Consulted Tribes that this notice has been published.

Dated: October 9, 2018.
Melanie O'Brien,
Manager, National NAGPRA Program.

[FR Doc. 2018-24664 Filed 11-9-18; 8:45 am]

BILLING CODE 4312-52-P